SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before July 27, 2009.

ADDRESSES: Send all comments regarding whether these information collections are necessary for the proper performance of the function of the agency, whether the burden estimates are accurate, and if there are ways to minimize the estimated burden and enhance the quality of the collection, to Cynthia Pitts, Administrative Officer, Office of Disaster Assistance, Small Business Administration, 409 3rd Street, 6th Floor, Washington, DC 20416.

FOR FURTHER INFORMATION CONTACT: Cynthia Pitts, Administrative Officer, Office of Disaster Assistance, 202-205-7570, cynthia.pitts@sba.gov, Curtis B. Rich, Management Analyst, 202-205-7030, curtis.rich@sba.gov.

SUPPLEMENTARY INFORMATION: This form is used to determine application for benefits (loan) used to determine eligibility and creditworthiness of victims who seek Federal assistance to implement pre-disaster mitigation efforts.

Title: “Pre-Disaster Mitigation Loan Application.”

Description of Respondents: Small Business Lending Companies.

Form Number: 5M.

Annual Responses: 5,000.

Annual Burden: 32.

Supplementary Information

SBA Form 700 provides a record of interviews for disaster assistance from SBA or administratively declared disasters, and for some victims in Presidential declared disasters.

Title: “Disaster Home/Business Loan Iniquity Record.”

Description of Respondents: Disaster Victims.

Form Number: 700.

Annual Responses: 3,261.

Annual Burden: 815.

Addresses: Send all comments regarding whether this information collection is necessary for the proper performance of the function of the agency, whether the burden estimates are accurate, and if there are ways to minimize the estimated burden and enhance the quality of the collection, to Bryan Hooper, Director, Office of Lender Oversight, Small Business Administration, 409 3rd Street, 8th Floor, Washington, DC 20416.

FOR FURTHER INFORMATION CONTACT: Bryan Hooper, Director, Office of Lender Oversight, 202-205-3049, bryan.hooper@sba.gov, Curtis B. Rich, Management Analyst, 202-205-7030, curtis.rich@sba.gov.

Supplementary Information

The information collected through these forms from the small business applications and participating lenders will be used to determine eligibility and to properly evaluate the merits of each loan request based on each criteria as character, capacity, credit collateral, etc. for the purpose of extending credit under the 7(a) loan program.

Title: “Lender Advantage.”

Description of Respondents: 7(a) Lenders.

Form Number's: 2301, A, B, C.

Annual Responses: 4,000.

Annual Burden: 20,000.

Addresses: Send all comments regarding whether this information collection is necessary for the proper performance of the function of the agency, whether the burden estimates are accurate, and if there are ways to minimize the estimated burden and enhance the quality of the collection, to Linda Roberts, Director, Office of Security Operations, Small Business Administration, 409 3rd Street, 5th Floor, Washington, DC 20416.

FOR FURTHER INFORMATION CONTACT: Linda Roberts, Director, Office of Security Operations, 202-205-6223, linda.roberts@sba.gov, Curtis B. Rich, Management Analyst, 202-205-7030, curtis.rich@sba.gov.

Supplementary Information

The form is used to collect information needed to make character determinations with respect to applicant for monetary loan assistance or applicants for participation in SBA programs. The information collected is used to conduct name checks looking for criminal records at the national (FBI) and local levels.

Title: “Statement of Personal History.”

Description of Respondents: Applicants for SBA Financial Assistance or other programs.

Form Number: 912.

Annual Responses: 142,000.

Annual Burden: 35,500.

Jacqueline White,
Chief, Administrative Information Branch.

[FR Doc. E9-12273 Filed 5-26-09; 8:45 am]

BILLING CODE 8025-01-P